DEPARTMENT OF THE INTERIOR

Bureau of Land Management

[OR-130-1020-PH; GP6-0078]

Notice of Public Meeting, Eastern Washington Resource Advisory Council Meeting

AGENCY: Bureau of Land Management, U.S. Department of the Interior.

ACTION: Notice of public meeting.

SUMMARY: In accordance with the Federal Land Policy and Management Act and the Federal Advisory Committee Act of 1972, the U.S. Department of the Interior, Bureau of Land Management Eastern Washington Resource Advisory Council will meet as indicated below.

DATES: The Eastern Washington Resource Advisory Council will meet Friday, March 31, 2006 at the Spokane District Office, Bureau of Land Management, 1103 North Fancher Road, Spokane Valley, Washington 99212-1275.

SUPPLEMENTARY INFORMATION: The meeting will start at 8:30 a.m. and adjourn at 4 p.m. Topics on the meeting agenda include: District accomplishments 2005 and Focus for 2006, update on land exchanges, Forest Health and Stewardship, BLM/USFS Service First, District priorities and workforce planning. The meeting is open to the public, with an opportunity for public comment between 11:45 a.m. and 12:15 p.m. Information to be distributed to Council members for their review should be submitted, in writing, to the Spokane District Office prior to March 31.

FOR FURTHER INFORMATION CONTACT: Sandra Gourdin or Kathy Helm, Bureau of Land Management, Spokane District Office, 1103 N. Fancher Road, Spokane Valley, Washington 99212, or call (509) 536-1200.

Dated February 16, 2006.
Gary J. Yeager,
Acting District Manager.

[FR Doc. E6-2562 Filed 2-22-06; 8:45 am]

BILLING CODE 4310-33-P